DEPARTMENT OF DEFENSE

Office of the Secretary

[Docket ID DoD-2022-OS-0079]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 29, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Application for Correction of Military Record Under the Provisions of Title 10, U.S. Code, Section 1552; DD Form 149; OMB Control Number 0704-0003.

Needs and Uses: Under Title 10 United States Code 1552, Active Duty and Reserve Component Service members, Coast Guard, former Service members, their lawful or legal representatives, spouses of former Service members on issues of Survivor Benefit Program (SBP) benefits, and civilian employees with respect to military records other than those related to civilian employment, who believe they have suffered an injustice as a result of error or injustice in military records (hereafter referred to as Respondent), may apply to their respective Boards for Correction of Military/Naval Records (BCM/NR) for a correction of their military record. These BCM/NR is the highest level of administrative review authority regarding official personnel records in the Military Departments. The information collected is needed to provide the BCM/NR the basic data to process and act on the Respondent's request.

The Respondent applies to the respective BCM/NR, which uses the DD Form 149, “Application for Correction of Military Record under the Provisions of Title 10, U.S. Code, Section 1552,” as the collection instrument. The form is formatted in both electronic and paper format with text or hand-written fillable entries. The information from the DD Form 149 is used by the respective BCM/NR in processing the respondent's request pursuant to 10 U.S.C. 1552. The DD Form 149 was developed to standardize application to the BCM/NR. This information is used to identify and secure the appropriate official military and medical records from the records storage facilities. Information on the form is also used to determine status, to allow respondents to designate counsel of choice, to identify the issues involved, and to determine if the request was filed within the three-year statute of limitations established by Congress (10 U.S.C. 1552).

The request is initiated by the Respondent; therefore, there is no preemptory request or invitation sent to the Respondent associated with the information collection. The information collected from the DD Form 149 is used by the respective BCM/NR to determine if an error or injustice has occurred in an individual's military record and, if applicable, the BCM/NR will promulgate a correction based on error, injustice, or clemency.

Affected Public: Individuals or households.

Annual Burden Hours: 20,759 hours.

Number of Respondents: 20,759.

Responses per Respondent: 1.

Annual Responses: 20,759.

Average Burden per Response: 1 hour.

Frequency: On occasion.

Dated: June 24, 2022.
Aaron T. Siegel,
Alternate OSD Federal Register Liaison Officer, Department of Defense.

[FR Doc. 2022-13972 Filed 6-29-22; 8:45 am]

BILLING CODE 5001-06-P